DEPARTMENT OF AGRICULTURE

Grain Inspection, Packers and Stockyards Administration

Grain Inspection Advisory Committee Reestablishment

AGENCY: Grain Inspection, Packers and Stockyards Administration, USDA.

ACTION: Notice to Reestablish Committee.

SUMMARY: Notice is hereby given that the Secretary of Agriculture has reestablished the Grain Inspection, Packers and Stockyards Administration (GIPSA) Grain Inspection Advisory Committee (Advisory Committee). The Secretary of Agriculture has determined that the Advisory Committee is necessary and in the public interest.

FOR FURTHER INFORMATION CONTACT: Terri L. Henry, Designated Federal Official, GIPSA, USDA, Rm. 2548-S, 1400 Independence Ave., SW., Washington, DC 20250; Telephone (202) 205-8281; Fax (202) 690-2173; Email Terri.L.Henry@usda.gov.

SUPPLEMENTARY INFORMATION: The purpose of the Advisory Committee is to provide advice to the Secretary with respect to the implementation of the Act and the Reorganization Act of 1994. The renewal of this Advisory Committee is in the public interest in connection with duties and responsibilities of GIPSA mandated by law to facilitate the marketing of grain. The Advisory Committee serves an essential function. Information about the Advisory Committee is available on the GIPSA Web site at http://www.gipsa.usda.gov/fgis/adcommit.html.

Larry Mitchell,
Administrator, Grain Inspection, Packers and Stockyards Administration.

[FR Doc. 2012-31281 Filed 12-27-12; 8:45 am]

BILLING CODE 3410-KD-P